DEPARTMENT OF ENERGY

Notice of Competitive Financial Assistance for the Office of Defense Nuclear Nonproliferation

AGENCY: U.S. Department of Energy (DOE).

ACTION: Notice of Financial Assistance Solicitation DE-PS01-00NN20115; Biological Detection and Enabling Science.

SUMMARY: The Office of Research and Engineering (NN-20) of the Office Defense Nuclear Nonproliferation (NN), U.S. Department of Energy (DOE), hereby announces its interest in receiving grant applications for its Chemical and Biological Nonproliferation Program. Research is sought for experimental and computational studies for biological detection and the underlying enabling science.

DATES: The formal solicitation document, which will include greater detail about specific program areas of interest, application instructions, and evaluation criteria, is expected to be issued in early June 2000. Potential applicants are strongly encouraged to submit a brief two to four page pre-application. All pre-applications, referencing solicitation DE-PS01-00NN20115, should be received by DOE by 2:30 p.m., EST, June 23, 2000. A response encouraging or discouraging the submission of a formal application will be communicated by electronic mail by June 30, 2000. The due date for applications in response to the formal solicitation will be 2:30 p.m., EST, July 28, 2000.

ADDRESSES: Both pre-applications and applications should be submitted electronically through the Department's Industry Interactive Procurement System (IIPS) located at http://doe-iips.pr.doe.gov. Further information and instructions for using the IIPS system are provided under the Supplementary Information section.

FOR FURTHER INFORMATION CONTACT: David Leotta, U.S. Department of Energy, Office of Headquarters Procurement Services, ATTN: MA-542, 1000 Independence Ave., SW, Washington, DC 20585, telephone number (202) 426-0063, facsimile number (202) 426-0168 or e-mail at: David.Leotta@hq.doe.gov. Questions or comments related to using the Industry Interactive Procurement System (IIPS) should be directed to the IIPS help-line at 1-800-683-0751. The preferred method of submitting questions is through e-mail. Only questions and/or comments submitted to Mr. Leotta will be considered. Questions or comments that are technical in nature will be directed by Mr. Leotta to the program office.

SUPPLEMENTARY INFORMATION: The formal solicitation document will be disseminated electronically as solicitation number DE-PS01-00NN20115 through the Department's Industry Interactive Procurement System (IIPS) located on the Doing Business with DOE Homepage located at http://doe-iips.pr.doe.gov. This is the primary way for the Office of Headquarters Procurement Services to conduct competitive acquisitions and financial assistance transactions. IIPS provides the medium for disseminating solicitations, receiving financial assistance applications and proposals, evaluating, and awarding various instruments in a paperless environment. To get more information about IIPS and to register your organization, go to http://www.doe-iips.pr.doe.gov. Click on one of the buttons on the left-hand side of the screen (information, register, log-in or browse IIPS). Registration is a prerequisite to the submission of an application, and applicants are encouraged to register as soon as possible. A help document, which describes how IIPS works, can be found at the bottom of the main page.

The Chemical and Biological Nonproliferation Program (CBNP) is an applied research and development program that seeks to develop advanced technologies and capabilities to counter the domestic chemical and biological threat. The program supports a diverse set of technology development efforts and related demonstration programs in areas including: biological detection, modeling, decontamination and the underlying biological sciences. Additional information on the program content and context are available on the CBNP website at: www.nn.doe.gov/cbnp.

Biological Detection and Enabling Science

A key component in the U.S. strategy to counter the threat posed by biological agents is biological detection. Early detection of a biological attack whether by direct detection of airborne biological agents, or rapid detection of those who have been exposed (pre-symptomatic) is essential to minimize the impact of such attacks. The DOE program is investing in technological approaches that have the potential to provide rapid detection of a suite of agents with high sensitivity and high selectivity. The existing portfolio of CBNP-supported projects are described on the CBNP website (www.nn.doe.gov/cbnp).

The CBNP is interested in projects that will further the knowledge of, and lead to improvements in, and techniques to bind and recognize specific biological pathogens. Selected projects will contribute to the public purpose by enhancing the understanding of the general scientific area of biological recognition, and will complement existing detector development projects underway within the CBNP. We are particularly interested in approaches that would ultimately lead to improved biological detection through higher sensitivity, specificity or shelf-live of reagents, or via decreased dependence on reagent use or sample preparation. Technological approaches need not be antigen-based, but may include nucleic acid recognition or other possible mechanisms.

Examples of possible topics include, but are not limited to:

• Structurally-based ligand design

• Molecularly imprinted polymers

• Combinatorial receptor design

• Phage display

Preference will be given to those applications that seek to develop approaches that will have broad generality to classes of pathogens. In addition, applications that propose to use biological targets relevant to the CBNP mission will be preferred over those that focus loosely on surrogate compounds.

The Statutory authority for this program is listed under the Catalog of Federal Domestic Assistance Number 81.113.

Carol M. Rueter,
Director, Division C, Office of Headquarters Procurement Services.

[FR Doc. 00-12932 Filed 5-22-00; 8:45 am]

BILLING CODE 6450-01-P